FEDERAL COMMUNICATIONS COMMISSION

47 CFR Part 73

[MB Docket No. 25-246; RM-12007; DA 25-1052; FR ID 322512]

Television Broadcast Services Fort Bragg and Cloverdale, California

AGENCY: Federal Communications Commission.

ACTION: Final rule.

SUMMARY: In this document, the Federal Communications Commission (Commission) modifies the Table of TV Allotments (table) rules by removing channel 8 at Fort Bragg and substituting channel 8 at Cloverdale, California, in response to a Petition for Rulemaking (Petition) filed by One Ministries, Inc. (Petitioner or OMI), licensee of KQSL(TV), channel 8, Fort Bragg, California. The Petitioner further requests modification of its license to specify Cloverdale as its community of license. OMI filed comments in support of the Petition, as required by the rules. Another commenter filed comments raising issues outside the scope of this proceeding and therefore the Commission declined to consider them. The staff engineering analysis finds that the proposal is in compliance with the Commission's principal community coverage and technical requirements. The public interest would be served by reallotting channel 8 from Fort Bragg to Cloverdale in the table consistent with the technical parameters set forth in the Petition.

DATES: Effective January 20, 2026.

FOR FURTHER INFORMATION CONTACT: Emily Harrison, Media Bureau, at Emily.Harrison@fcc.gov, (202) 418-1665, or Mark Colombo, Media Bureau, at Mark.Colombo@fcc.gov, (202) 418-7611.

SUPPLEMENTARY INFORMATION: This is a synopsis of the Commission's Report and Order, in MB Docket No. 25-246; RM-12007; DA 25-1052, adopted and released on December 11, 2025. The proposed rule was published at 90 FR 41024 on August 22, 2025. The full text of this document is available online at https://docs.fcc.gov/public/attachments/DA-25-1052A1.pdf.

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. Amend § 73.622, in the table in paragraph (j), under California, by:

a. Adding the entry of “Cloverdale” in alphabetical order; and

b. Revising the entry of “Fort Bragg”.

The addition and revision read as follows:

§ 73.622 Digital television table of allotments.

* * * * *

(j) * * *

Community | Channel No.
* * * * * * *
California
* * * * * * *
Cloverdale | 8
* * * * * * *
Fort Bragg | * 4
* * * * * * *

* * * * *

[FR Doc. 2025-23487 Filed 12-18-25; 8:45 am]

BILLING CODE 6712-01-P